SECURITIES AND EXCHANGE COMMISSION

[File No. 500-1]

Nationwide Capital Corporation; Order of Suspension of Trading

October 1, 2002.

It appears to the Securities and Exchange Commission that there is a lack of current and accurate information concerning the securities of Nationwide Capital Corporation (“Nationwide”) because of questions regarding the accuracy of assertions by or about Nationwide on its Internet website, marketing materials, company press releases and other publicly available sources to investors concerning, among other things: (a) The company's business operations, (b) the company's business relationships, (c) the company's current financial condition, (d) the company's acquisition of Your Corner Office (“YCO”), a privately held company, and (e) trading in the company's common stock by related shareholders.

The Commission is of the opinion that the public interest and the protection of investors require a suspension of trading in the securities of the above listed company.

Therefore, it is ordered, pursuant to section 12(k) of the Securities Exchange Act of 1934, that trading in the above listed company is suspended for the period from 9:30 a.m. EDT, October 1, 2002 through 11:59 p.m. EDT, on October 14, 2002.

By the Commission.
Jonathan G. Katz,
Secretary.

[FR Doc. 02-25347 Filed 10-1-02; 4:05 pm]

BILLING CODE 8010-01-P